DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held October 4-7, 2005 starting at 9 a.m.

ADDRESSES: The meeting will be held at International Civil Aviation Organization (ICAO), 999 University Street, Montreal, Quebec H3C 5H7, Canada.

FOR FURTHER INFORMATION CONTACT: (1) RTCA Secretariat, 1828 L Street, NW., Suite 805, Washington, DC 20036, (202) 833-9339; fax (202) 833-9434; Web site http://www.rtca.org; (2) ICAO—Mr. Chris Dalton; (PhoneP 514-954-8219, ext. 6710; (Fax) 514-954-6759, (e-mail) cdalton@icao.int.

SUPPLEMENTARY INFORMATION: Pursuant to section 10(a)(2) of the Federal Advisory Committee Ace (Pub. L. 92-463, 5 U.S.C., Appendix 2), notice is hereby given for a Special Committee 189/EUROCAE Working Group 53 meeting Note: Submit your name and company to tom.kraft@faa.gov if you will be attending the meeting. If you need information on the Montreal area, you can go to http://www.tourism-montreal.org. The two hotels listed below are within walking distance to ICAO and a short taxi from the airport. When contacting them, specify that you are attending the “ICAO and RTCA SC189/EUROCAE WG-53 Joint Meeting on ATS Safety and Interoperability Requirements.” Dress Code for this meeting is Formal/suit and tie.

Marriott Chateau Champlain, 1050 De La Guachetiere, Montreal, Quebec H3B4C9, Tel: 514-878-9000, Fax: 514-878-6761.

Hilton Montreal Bonaventure, 900 De La Guachetiere, Montreal, Quebec H3B4C9, Tel: 514-878-2332, Fax: 514-878-3881.

The plenary agenda will include:

• October 4:

• Opening Plenary Session (Welcome and Introductory Remarks, Review/Approval of Meeting Agenda, Review/Approval of Meeting Mintues).

• SC-189/WG-53 co-chair progress report.

• Group A: Progress work on Oceanic SPR Standard (PU-24).

• Group B: Progress work on FANS 1/A-ATN Interoperability Standard (PU-40).

• October 5-6:

• Group A: Progress work on Oceanic SPR Standard (PU-24).

• Group B: Progress work on FANS 1/A-ATN Interoperability Standard (PU-40).

• October 7:

• Closing Plenary Session.

• Debrief on progress of the week.

• Review schedule and action items.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on September 14, 2005.
Natalie Ogletree,
FAA General Engineer, RTCA Advisory Committee.

[FR Doc. 05-18810 Filed 9-20-05; 8:45 am]

BILLING CODE 4910-13-M